DEPARTMENT OF TRANSPORTATION

Federal Aviation Administration

Draft Order 8040.2, Airworthiness Directive Process for Mandatory Continuing Airworthiness Information

AGENCY: Federal Aviation Administration (DOT).

ACTION: Notice of availability and request for public comment.

SUMMARY: This notice announces the availability of, and requests comments on draft Order 8040.2, Airworthiness Directive Process for Mandatory Continuing Airworthiness Information. The draft order describes new policy and procedures for developing and issuing Federal Aviation Administration (FAA) airworthiness directives (AD) on imported products where the State of Design Authority issued mandatory continuing airworthiness information (MCAI). The process will allow for a timelier issuance of ADs.

DATES: Comments must be received on or before June 14, 2006.

ADDRESSES: Send your comments on the draft Order electronically by logging onto the following Web site: http://www.faa.gov/aircraft/draft_docs/. You may submit a hard copy of your comments to the address specified below, to the attention of the individual identified as point of contact for the document.

FOR FURTHER INFORMATION CONTACT: Ms. Linda Walker, AIR-140, Federal Aviation Administration, Aircraft Certification Service, Aircraft Engineering Division, Room 813, 800 Independence Avenue, SW., Washington, DC 20591, telephone (202) 267-9592, Fax (2020 267-5340.

SUPPLEMENTARY INFORMATION:

Comments Invited

When commenting on the draft Order, you should identify the Order by its number, 8040.2. Comments received may be examined, both before and after the closing date, in room 815 at the above address, weekdays except Federal holidays, between 8:30 a.m. and 4:40 p.m. The Director, Aircraft Certification Service, will consider all comments received on or before the closing date before issuing a final document. You may obtain a paper copy of the draft Order by contacting the individual listed above, or obtain an electronic copy of the draft Order at: http://www.faa.gov/aircraft/draft_docs/. For Internet retrieval assistance, contact the AIR Internet Content Program Manager at (202) 267-8361.

Background

The FAA proposes prototyping a new process for the issuance of airworthiness directives (AD) for imported products where the State of Design Authority issued mandatory continuing airworthiness information (MCAI). In the draft order we describe policies and procedures for developing streamlined ADs issued against imported products. This streamlining will allow publishing of the ADs in a more expeditious manner, thereby ensuring the continued safety of the flying public in a more timely fashion. This process will continue to follow all existing AD issuance processes to meet legal, economic, Administrative Procedure Act, and Federal Register requirements.

Our Aircraft Certification Directorates will soon begin issuing individual ADs to prototype the streamlined process described in the draft order. Please note, in addition to the normal request for comments pertaining to the actual AD, we will request your comments, views, or arguments on the new process.

How to Obtain Copies

You may view or download the draft order from its online location at http://www.faa.gov/aircraft/draft_docs/. At this Web page, under Draft Documents Open for Comment, select “Orders.” At the Orders page, select “Proposed Orders.”

Issued in Washington, DC, on May 9, 2006.
David Hempe,
Manager, Aircraft Engineering Division, Aircraft Certification Service.

[FR Doc. 06-4525 Filed 5-12-06; 8:45 am]

BILLING CODE 4910-13-M